DEPARTMENT OF HOMELAND SECURITY

Transportation Security Administration

[Docket No. TSA-2014-0001]

RIN 1652-ZA19

TSA Pre✓® Application Program; Expansion of Enrollment Options

AGENCY: Transportation Security Administration, DHS.

ACTION: Notice; request for comments.

SUMMARY: The Transportation Security Administration (TSA) recently announced its intent to expand enrollment options for the TSA Pre✓® Application Program. The purpose of this Notice is to solicit comments from the traveling public concerning their overall views on the TSA Pre✓® Application Program and on TSA efforts to improve and/or expand enrollment.

ADDRESSES: You may submit comments, identified by the TSA docket number to this Notice, to the Federal Docket Management System (FDMS), a government-wide, electronic docket management system, using any one of the following methods:

Electronically: You may submit comments through the Federal eRulemaking portal at http://www.regulations.gov. Follow the online instructions for submitting comments.

Mail, in Person, or Fax: Address, hand-deliver, or fax your written comments to the Docket Management Facility, U.S. Department of Transportation, 1200 New Jersey Avenue SE., West Building Ground Floor, Room W12-140, Washington, DC 20590-0001; fax (202) 493-2251. The Department of Transportation (DOT), which maintains and processes TSA's official regulatory dockets, will scan the submission and post it to FDMS. See SUPPLEMENTARY INFORMATION for format and other information about comment submissions.

FOR FURTHER INFORMATION CONTACT: Transportation Security Administration, 601 South 12th Street, Arlington, VA 20598-6014; email: tsa-fees@dhs.gov.

SUPPLEMENTARY INFORMATION:

Comments Invited

TSA invites interested persons to submit written comments, data, or views. See ADDRESSES above for information on where to submit comments.

With each comment, please identify the docket number at the beginning of your comments. TSA encourages commenters to provide their names and addresses. You may submit comments and material electronically, in person, by mail, or fax as provided under ADDRESSES, but please submit your comments and material by only one means. If you submit comments by mail or delivery, submit them in an unbound format, no larger than 8.5 by 11 inches, suitable for copying and electronic filing.

If you would like TSA to acknowledge receipt of comments submitted by mail, include with your comments a self-addressed, stamped postcard on which the docket number appears. We will stamp the date on the postcard and mail it to you.

TSA will file all comments to our docket address, as well as items sent to the address or email under FOR FURTHER INFORMATION CONTACT, in the public docket, except for comments containing confidential information and sensitive security information (SSI). Should you wish your personally identifiable information redacted prior to filing in the docket, please so state. TSA will consider all comments that are in the docket on or before the closing date for comments and will consider comments filed late to the extent practicable. The docket is available for public inspection before and after the comment closing date.

Reviewing Comments in the Docket

Please be aware that anyone is able to search the electronic form of all comments in any of our dockets by the name of the individual who submitted the comment (or signed the comment, if an association, business, labor union, etc., submitted the comment). You may review the applicable Privacy Act Statement published in the Federal Register on April 11, 2000 (65 FR 19477) and modified on January 17, 2008 (73 FR 3316).

You may review TSA's electronic public docket on the Internet at http://www.regulations.gov. In addition, DOT's Docket Management Facility provides a physical facility, staff, equipment, and assistance to the public. To obtain assistance or to review comments in TSA's public docket, you may visit this facility between 9:00 a.m. and 5:00 p.m., Monday through Friday, excluding legal holidays, or call (202) 366-9826. This docket operations facility is located in the West Building Ground Floor, Room W12-140 at 1200 New Jersey Avenue SE., Washington, DC 20590.

Availability of This Document

You may obtain an electronic copy of this document using the Internet by—

(1) Searching the electronic Federal Docket Management System (FDMS) Web page at http://www.regulations.gov;

(2) Accessing the Government Printing Office's Web page at http://www.gpo.gov/fdsys/browse/collection.action?collectionCode=FR to view the daily published Federal Register edition; or accessing the “Search the Federal Register by Citation” in the “Related Resources” column on the left, if you need to do a Simple or Advanced search for information, such as a type of document that crosses multiple agencies or dates; or

(3) Visiting TSA's Security Regulations Web page at http://www.tsa.gov and accessing the link for “Stakeholders” at the top of the page, then the link “Research Center” in the left column.

In addition, copies are available by writing or calling the individual in the FOR FURTHER INFORMATION CONTACT section. Make sure to identify the docket number of this rulemaking.

DATES: Comments and related material must be received on or before January 30, 2015.

Discussion

In December 2013, TSA introduced the TSA Pre✓® Application Program,¹ a voluntary passenger prescreening initiative for low risk passengers who are eligible to receive expedited screening at participating U.S. airport security checkpoints.² This Program permits any member of the public to apply directly to TSA for eligibility by providing biographic and biometric information that TSA uses to conduct a comprehensive security threat assessment.³ TSA issues a “known traveler number” to applicants who TSA deems a low risk to transportation security based on the results of the security threat assessment. As of December 5, 2014, 734,761 individuals have enrolled with TSA and been approved for the TSA Pre✓® Application Program.

¹ See, “TSA Announces New Application Process for TSA Pre✓™, More Options to Apply for Expedited Screening; First Application Center to Open in Indianapolis,” http://www.tsa.gov/press/releases/2013/12/03/tsa-announces-new-application-process-tsa-precheck-more-options-apply. See also: Privacy Impact Assessment for the TSA Pre✓™ Application Program, DHS/TSA/PIA-041, (Sept. 4, 2013), www.dhs.gov/sites/default/files/publications/privacy-pia-tsa-precheck-09042013.pdf; Notice of Privacy Act system of records, Privacy Act of 1974; Department of Homeland Security/Transportation Security Administration-DHS/TSA-021 TSA Pre✓™, 78 FR 55274 (Sept. 10, 2013); and Notice, TSA Pre✓™ Application Program Fee, 78 FR 72922 (Dec. 4, 2013).

² Passengers who are eligible for expedited screening through a dedicated lane typically receive more limited physical screening, e.g., will be able to leave on their shoes, light outerwear, and belt; keep their laptop in its case; and keep their 3-1-1 compliant liquids/gels bag in a carry-on. The first travelers eligible for TSA Pre✓® screening included members of U.S. Customs and Border Protection (CBP) trusted traveler programs, and other groups such as government employees with security clearances for whom TSA had conducted a threat assessment.

³ This threat assessment includes vetting the applicant's voluntarily submitted biographic and biometric information against law enforcement, immigration, and intelligence databases, including a criminal history check conducted by the Federal Bureau of Investigation using the applicant's fingerprints. See Privacy Impact Assessment for the TSA Pre✓™ Application Program, DHS/TSA/PIA-041, (Sept. 4, 2013), www.dhs.gov/sites/default/files/publications/privacy-pia-tsa-precheck-09042013.pdf; Notice of Privacy Act system of records, Privacy Act of 1974; Department of Homeland Security/Transportation Security Administration-DHS/TSA-021 TSA Pre✓™, 78 FR 55274 (Sept. 10, 2013); and Notice, TSA Pre✓™ Application Program Fee, 78 FR 72922 (Dec. 4, 2013).

TSA has established a total of 328 enrollment centers across the country for applicants to use to apply for the Program. Of these, 33 are located at airports and 295 are located off airport property. Many of the 295 enrollment centers were first established several years ago to meet the needs for other TSA programs, such as enrolling port workers applying for a Transportation Worker Identification Credential needed for access to maritime facilities, and commercial truck drivers applying for a Hazardous Materials Endorsement. TSA leveraged these enrollment centers when the TSA Pre✓® Application Program launched to quickly provide enrollment sites for interested individuals across the country.

The TSA Pre✓® Application Program is a risk-based approach to aviation screening that allows TSA to focus its limited resources on unknown and perhaps high-risk travelers, while improving the travel experience for most air travelers. The overwhelming majority of air passengers are `low risk' travelers, but it is not possible for TSA to confirm that on an individual basis without more information. This program improves security by directly providing TSA with the information necessary to achieve a high level of confidence on the relative risk each individual may present. For this reason, TSA seeks new methods to expand the program at a greater pace than the current rate.

In September, TSA Administrator John Pistole announced that TSA is developing a private sector application initiative as an additional option for travelers to apply to TSA's Pre✓® Application Program. Under this initiative, TSA plans to expand enrollment options for the TSA Pre✓® Application Program by seeking proposals from the private sector to market, enroll, and pre-screen applicants.⁴ TSA is seeking proposals for enrollment and prescreening from the private sector that would include, at a minimum, options to collect biographic and biometric (e.g., fingerprints or iris scans) information, to validate identity, and to perform a criminal history records check to ensure that applicants do not have convictions for criminal offenses that would disqualify them from the TSA Pre✓® Application Program (please refer to the list of current disqualifiers available at www.tsa.gov/tsa-precheck/eligibility-requirements). These options may include the use of commercial and other publicly available data to conduct identity verification and prescreening of applicants.

⁴ See the solicitation notice for the TSA Pre✓® Application Program Expansion Initiative in FedBizOpps.gov at https://www.fbo.gov/index?s=opportunity&mode=form&id=7f7ef8721d3465271d42053408e50119&tab=core&_cview=0.

For successfully enrolled and pre-screened applicants, TSA would conduct a security threat assessment and make a final eligibility determination for the TSA Pre✓® Application Program. By leveraging private-sector best practices in business operations, marketing, and algorithm optimization, TSA hopes to provide a better travel experience for an increased number of trusted travelers.⁵

⁵ See “TSA Pre✓™ Private Sector Vetting Initiative,” http://www.tsa.gov/press/news/2014/09/26/tsa-precheck-private-sector-vetting-initiative.

We believe input from the traveling public can be useful in a variety of areas to enhance enrollment, including:

• Identification of convenient locations for enrollment centers;

• Preferred marketing and communications techniques to reach a higher percentage of travelers;

• Potential uses of private sector capabilities for marketing, enrollment, and prescreening of applicants;

• Data sources and methods to enhance the verification of an applicant's identity, including the use of commercially-available data;

• Ideas to remove barriers to the existing application process and/or ways to streamline the application process; and

• Other factors to improve the program overall.

Commenters must be cognizant of the fact that, while TSA will review and consider all comments received, TSA may not implement all comments. TSA, like most Government agencies, is subject to a variety of laws that may restrict our ability to significantly restructure the program. TSA is required by law to collect fees for all vetting and credentialing programs ⁶ and thus, we cannot eliminate the fee for conducting security threat assessments on applicants to determine their risk status. We must collect personal information from applicants in order to conduct security threat assessments, and thus must adhere to all laws that require the protection of and regulate the use of that information. Most importantly, TSA will not implement any new measure, process, or standard that diminishes security or prevents TSA from using its discretion to make final eligibility determinations for the TSA Pre✓® Application Program.

⁶ See 6 U.S.C. 469.

Dated: December 23, 2014.
Kenneth C. Fletcher,
Chief Risk Officer, Office of the Chief Risk Officer.

[FR Doc. 2014-30639 Filed 12-30-14; 8:45 am]

BILLING CODE 9110-05-P